DEPARTMENT OF TRANSPORTATION

Federal Highway Administration (FHWA)

Notice of Final Federal Agency Actions on Proposed Highway in California

AGENCY: Federal Highway Administration (FHWA), DOT.

ACTION: Notice of Limitation on Claims for Judicial Review of Actions by the California Department of Transportation (Caltrans), pursuant to 23 U.S.C. 327 and other Federal agencies.

SUMMARY: The FHWA, on behalf of Caltrans, is issuing this notice to announce actions taken by Caltrans, that are final within the meaning of 23 U.S.C. 139(l)(1). The actions relate to a proposed highway project, Interstate 5 from the cities of San Clemente to San Juan Capistrano in Orange County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 27, 2015. If the Federal law that authorizes judicial review of a claim provides a time period of less than 150 days for filing such claim, then that shorter time period still applies.

FOR FURTHER INFORMATION CONTACT: Smita Deshpande, Branch Chief, California Department of Transportation District 12, Division of Environmental Analysis, 3347 Michelson Drive, Suite 100, Irvine, CA 92612, during normal business hours from 9:00 a.m. to 5:00 p.m., telephone (949) 724-2245, email smita.deshpande@dot.ca.gov.

SUPPLEMENTARY INFORMATION: Effective July 1, 2007, the Federal Highway Administration (FHWA) assigned, and the California Department of Transportation (Caltrans) assumed environmental responsibilities for this project pursuant to 23 U.S.C. 327. Notice is hereby given that Caltrans has taken final agency actions subject to 23 U.S.C. 139(l)(1) by issuing licenses, permits, and approvals for the following highway project in the State of California. The project proposes to add one high-occupancy vehicle (HOV) lane in each direction on Interstate 5, reestablish existing auxiliary lanes and construct new auxiliary lanes, and improve several existing on- and off-ramps. The project limits extend from 0.4 miles (mi) south of the Avenida Pico Undercrossing (UC) (Post Mile [PM] 3.0) to 0.1 mi south of the San Juan Creek Road UC (PM 8.7). The total length of the project is 5.7 mi. The actions by the Federal agencies, and the laws under which such actions were taken, are described in the Environmental Assessment/Finding of No Significant Impacts (EA/FONSI) for the project, approved on October 26, 2011 and in other documents in the FHWA project records. Due to the length of time since the approval of the environmental document, the document was revisited. It was concluded that the EA/FONSI was still valid and no new issues were identified. The EA/FONSI and other project records are available by contacting Caltrans at the address provided above. The FONSI can be viewed from the project Web site at http://www.dot.ca.gov/dist12/.

This notice applies to all Federal agency decisions as of the issuance date of this notice and all laws under which such actions were taken, including but not limited to:

1. General: National Environmental Policy Act (NEPA) (42 U.S.C. 4321-4351)

2. Clean Air Act (42 U.S.C. 7401-7671 (q))

3. Migratory Bird Treaty Act (16 U.S.C. 703-712)

4. Historic and Cultural Resources: Section 106 of the National Historic Preservation Act of 1966, as amended (16 U.S.C. 470(f) et seq.)

5. Clean Water Act (Section 401) (33 U.S.C. 1251-1377)

6. Federal Endangered Species Act of 1973 (16 U.S.C. 1531-1543)

7. Executive Order 11990—Protection of Wetlands

8. Executive Order 11988—Floodplain Management

9. Executive Order 12898—Environmental Justice

10. Department of Transportation Act of 1966, Section 4(f) (49 U.S.C. 303)

11. Executive Order 13112—Invasive Species

(Catalog of Federal Domestic Assistance Program Number 20.205, Highway Planning and Construction. The regulations implementing Executive Order 12372 regarding intergovernmental consultation on Federal programs and activities apply to this program.)

Authority: 23 U.S.C. 139(l)(1).

Gary Sweeten,
North Team Leader, Project Delivery, Federal Highway Administration, Sacramento, California.

[FR Doc. 2015-03953 Filed 2-25-15; 8:45 am]

BILLING CODE 4910-RY-P